COMMITTEE FOR PURCHASE FROM PEOPLE WHO ARE BLIND OR SEVERELY DISABLED

Procurement List: Additions and Deletions

AGENCY: Committee for Purchase From People Who Are Blind or Severely Disabled.

ACTION: Additions to and deletions from the Procurement List.

SUMMARY: This action adds to the Procurement List services to be furnished by nonprofit agencies employing persons who are blind or have other severe disabilities, and deletes from the Procurement List products and a service previously furnished by such agencies.

EFFECTIVE DATE: July 13, 2008.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION:

Additions

On April 18, 2008, the Committee for Purchase From People Who Are Blind or Severely Disabled published notice (73 FR 21107) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services:

Service Type/Location: Base Supply Center & HAZMAT, Naval Air Station—Joint Reserve Base (NASJRB), New Orleans, LA.

NPA: Raleigh Lions Clinic for the Blind, Inc., Raleigh, NC.

Contracting Activity: Fleet and Industrial Supply Center—Jacksonville, Jacksonville, FL.

Service Type/Location: Custodial Services, Fort Sam Houston, Camp Bullis, Building 6116, San Antonio, TX.

NPA: Training, Rehabilitation, & Development Institute, Inc., San Antonio, TX.

Contracting Activity: Southern Region Contracting Center—West, Fort Sam Houston, TX.

Deletions

On April 18, 2008, the Committee for Purchase From People Who Are Blind or Severely Disabled published notice (73 FR 21107) of proposed deletions to the Procurement List.

After consideration of the relevant matter presented, the Committee has determined that the products and service listed below are no longer suitable for procurement by the Federal Government under 41 U.S.C. 46-48c and 41 CFR 51-2.4.

Regulatory Flexibility Act Certification

I certify that the following action will not have a significant impact on a substantial number of small entities. The major factors considered for this certification were:

1. The action should not result in additional reporting, recordkeeping or other compliance requirements for small entities.

2. The action may result in authorizing small entities to furnish the products and service to the Government.

3. There are no known regulatory alternatives which would accomplish the objectives of the Javits-Wagner-O'Day Act (41 U.S.C. 46-48c) in connection with the products and service deleted from the Procurement List.

End of Certification

Accordingly, the following products and service are deleted from the Procurement List:

Products:

Computer Accessories

NSN: 7045-01-483-7832—CD Organizer.

NSN: 7045-01-483-7837—Ergo Gel Keyboard and Monitor Platform.

NPA: Wiscraft Inc.—Wisconsin Enterprises for the Blind, Milwaukee, WI.

Contracting Activity: General Services Administration, Office Supplies & Paper Products Acquisition Ctr., New York, NY.

Frame, Transparency Mounting

NSN: 6750-00-378-6825.

NPA: Industries of the Blind, Inc., Greensboro, NC.

Contracting Activity: General Services Administration, Office and Photographic Equipment Division.

Hydration On-the-Move System

NSN: 8465-00-NIB-0041—Canteen, One Quart Flexible—Echo.

NSN: 8465-00-NIB-0071—Bravo Woodland.

NSN: 8465-00-NIB-0072—Bravo Desert.

NSN: 8465-00-NIB-0073—Bravo Black.

NSN: 8465-00-NIB-0074—Delta Woodland.

NSN: 8465-00-NIB-0075—Delta Desert.

NSN: 8465-00-NIB-0076—Delta Black.

NSN: 8465-00-NIB-0077—Alpha Woodland.

NSN: 8465-00-NIB-0092—Warrior Woodland.

NSN: 8465-00-NIB-0093—Warrior Desert.

NSN: 8465-00-NIB-0094—Warrior Black.

NSN: 8465-00-NIB-0095—Sierra Woodland.

NSN: 8465-00-NIB-0096—Sierra Desert.

NSN: 8465-00-NIB-0097—Sierra Black.

NPA: The Lighthouse for the Blind, Inc. (Seattle Lighthouse), Seattle, WA.

Contracting Activity: General Services Administration, Office Supplies & Paper Products Acquisition Ctr., New York, NY.

Service:

Service Type/Location: Janitorial/Custodial, Social Security Administration Building, 142 Auburn Street, Pontiac, MI.

NPA: New Horizons Rehabilitation Services, Inc., Auburn Hills, MI.

Contracting Activity: General Services Administration, Region 5, Chicago, IL.

Kimberly M. Zeich,
Director, Program Operations.

[FR Doc. E8-13362 Filed 6-13-08; 8:45 am]

BILLING CODE 6353-01-P